DEPARTMENT OF COMMERCE

Foreign-Trade Zones Board

[S-97-2018]

Approval of Subzone Status; Albany Safran Composites LLC; Rochester, New Hampshire

On July 5, 2018, the Executive Secretary of the Foreign-Trade Zones (FTZ) Board docketed an application submitted by the Pease Development Authority, grantee of FTZ 81, requesting subzone status subject to the existing activation limit of FTZ 81, on behalf of Albany Safran Composites LLC, in Rochester, New Hampshire.

The application was processed in accordance with the FTZ Act and Regulations, including notice in the Federal Register inviting public comment (83 FR 32072-32073, July 11, 2018). The FTZ staff examiner reviewed the application and determined that it meets the criteria for approval. Pursuant to the authority delegated to the FTZ Board Executive Secretary (15 CFR Sec. 400.36(f)), the application to establish Subzone 81E was approved on September 26, 2018, subject to the FTZ Act and the Board's regulations, including Section 400.13, and further subject to FTZ 81's 2,000-acre activation limit.

Dated: January 31, 2019.
Andrew McGilvray,
Executive Secretary.

[FR Doc. 2019-01279 Filed 2-5-19; 8:45 am]

BILLING CODE 3510-DS-P